INTERNATIONAL TRADE COMMISSION

Sunshine Act Meeting

Agency Holding the Meeting: United States International Trade Commission.

Time and Date: February 12, 2001 at 2 p.m.

Place: Room 101, 500 E Street SW., Washington, DC 20436, Telephone: (202) 205-2000.

Status: Open to the public.

Matters to be Considered: 1. Agenda for future meeting: none.

2. Minutes.

3. Ratification List.

4. Inv. Nos. 701-TA-413 and 731-TA-913-918 (Preliminary) (Stainless Steel Bar from France, Germany, Italy, Korea, Taiwan, and the United Kingdom)—briefing and vote. (The Commission is currently scheduled to transmit its determination to the Secretary of Commerce on February 12, 2001; Commissioners' opinions are currently scheduled to be transmitted to the Secretary of Commerce on February 20, 2001.)

5. Outstanding action jackets:

(1) Document No. EC-01-003: Approval of final report in Inv. No. 332-413 (The Economic Impact of U.S. Sanctions with Respect to Cuba).

(2) Document No. ID-01-001: Approval of study coverage, objectives, methodology, travel requirements, annotated outline, and revised staffing plan and work schedule in Inv. No. 332-423 (The Effects of EU Policies on the Competitive Position of the U.S. and EU Horticultural Products Sector).

In accordance with Commission policy, subject matter listed above, not disposed of at the scheduled meeting, may be carried over to the agenda of the following meeting.

Issued: February 2, 2001.
By order of the Commission:
Donna R. Koehnke,
Secretary.

[FR Doc. 01-3331 Filed 2-5-01; 3:13 pm]

BILLING CODE 7020-02-U